DEPARTMENT OF THE TREASURY

Office of Thrift Supervision

[AC-15: OTS No. H4429]

First Savings Bank of Renton, First Financial Holdings, MHC, First Financial of Renton, Inc., and First Financial Northwest, Inc., Renton, WA; Approval of Conversion Application

Notice is hereby given that on August 13, 2007, the Office of Thrift Supervision (OTS) approved the application of First Financial Holdings, MHC and First Savings Bank of Renton, Renton, Washington, to convert to the stock form of organization. Copies of the application are available for inspection by appointment (phone number: 202-906-5922 or e-mail: Public.Info@OTS.Treas.gov) at the Public Reading Room, 1700 G Street, NW., Washington, DC 20552, and OTS West Regional Office, Pacific Plaza, 2001 Junipero Serra Blvd., Suite 650, Daly City, CA 94014-1976.

Dated: August 14, 2007.
By the Office of Thrift Supervision.
Sandra E. Evans,
Legal Information Assistant.

[FR Doc. 07-4041 Filed 8-17-07; 8:45 am]

BILLING CODE 6720-01-M